DEPARTMENT OF ENERGY

Federal Energy Regulatory Commission

[Project No. 7189-014]

Green Lake Water Power Company; Green Lake Hydroelectric Project; Notice of Dispute Resolution Panel Meeting and Technical Conference

On March 9, 2020, Commission staff, in response to the filing of a notice of study dispute by the U.S. National Marine Fisheries Service (NMFS) on February 25, 2020, convened a single three-person Dispute Resolution Panel (Panel) pursuant to 18 CFR 5.14(d).

The Panel will hold a technical conference, via conference call, at the time identified below. The technical conference will address the study dispute regarding an assessment of the feasibility of various fish passage options for Atlantic salmon and alewife at the Green Lake Project, as requested by NMFS in its study request filed on July 26, 2019.

The purpose of the technical session is for the disputing agency, applicant, and Commission to provide the Panel with additional information necessary to evaluate the disputed study. All local, state, and federal agencies, Indian tribes, and other interested parties are invited to participate in the conference call as observers. The Panel may also request information or clarification on written submissions as necessary to understand the matters in dispute. The Panel will limit all input that it receives to the specific study or information in dispute and will focus on the applicability of the study or information to the study criteria stipulated in 18 CFR 5.9(b). If the number of participants wishing to speak creates time constraints, the Panel may, at its discretion, limit the speaking time for each participant.

For more information, please contact Jody Callihan, the Dispute Resolution Panel Chair, at jody.callihan@ferc.gov or 202-502-8278.

Technical Conference Call

Date: Monday, March 30, 2020

Time: 10:00 a.m.-12:00 p.m. (EST)

Conference Call-in Information

WebEx

Call-in number: 202-502-8001

Meeting ID number: 991839900

Dated: March 11, 2020..
Kimberly D. Bose,
Secretary.

[FR Doc. 2020-05462 Filed 3-16-20; 8:45 am]

BILLING CODE 6717-01-P